Title 3—

The President

Memorandum of April 29, 2015

Delegation of Authority Under Section 506(a)(1) of the Foreign Assistance Act of 1961

Memorandum for the Secretary of State

By the authority vested in me as President by the Constitution and the laws of the United States of America, including section 301 of title 3, United States Code, I hereby delegate to the Secretary of State the authority under section 506(a)(1) of the Foreign Assistance Act of 1961 to direct the drawdown of up to $35 million in defense services of the Department of Defense to provide assistance to France in its efforts to secure Mali, Niger, and Chad from terrorists and violent extremists, and to make the determinations required under such section to direct such a drawdown.

You are authorized and directed to publish this memorandum in the Federal Register.

THE WHITE HOUSE,

Washington, April 29, 2015

[FR Doc. 2015-11761

Filed 5-13-15; 08:45 am]

Billing code 4710-10